DEPARTMENT OF ENERGY

Federal Energy Regulatory Commission

Combined Notice of Filings #2

Take notice that the Commission received the following electric rate filings:

Docket Numbers: ER16-2234-001.

Applicants: EF Kenilworth LLC.

Description: Tariff Amendment: Supplement to Market-Based Rate Application to be effective 7/20/2016.

Filed Date: 8/31/16.

Accession Number: 20160831-5183.

Comments Due: 5 p.m. ET 9/12/16.

Docket Numbers: ER16-2533-000.

Applicants: PJM Interconnection, L.L.C.

Description: Section 205(d) Rate Filing: Revisions to the Parameter Limited Schedule Exception Process to be effective 10/31/2016.

Filed Date: 9/1/16.

Accession Number: 20160901-5184.

Comments Due: 5 p.m. ET 9/22/16.

Docket Numbers: ER16-2534-000.

Applicants: Midcontinent Independent System Operator, Inc., Northern Indiana Public Service Company.

Description: Section 205(d) Rate Filing: 2016-09-01_NIPSCO Request for Approval of Depreciation Rates to be effective 10/1/2016.

Filed Date: 9/1/16.

Accession Number: 20160901-5189.

Comments Due: 5 p.m. ET 9/22/16.

Docket Numbers: ER16-2535-000.

Applicants: New England Power Pool Participants Committee.

Description: Section 205(d) Rate Filing: Sep 2016 Membership Filing to be effective 8/1/2016.

Filed Date: 9/1/16.

Accession Number: 20160901-5218.

Comments Due: 5 p.m. ET 9/22/16.

Docket Numbers: ER16-2536-000.

Applicants: Pacific Gas and Electric Company.

Description: Tariff Cancellation: Termination of PWRPA's Ramal Road and River Road WDT Service Agreements to be effective 11/1/2016.

Filed Date: 9/1/16.

Accession Number: 20160901-5230.

Comments Due: 5 p.m. ET 9/22/16.

Docket Numbers: ER16-2537-000.

Applicants: Tucson Electric Power Company.

Description: Tariff Cancellation: Cancellation of Service Agreement No. 356 to be effective 5/27/2015.

Filed Date: 9/1/16.

Accession Number: 20160901-5234.

Comments Due: 5 p.m. ET 9/22/16.

Docket Numbers: ER16-2538-000.

Applicants: Tucson Electric Power Company.

Description: Tariff Cancellation: Cancellation of Service Agreement Nos. 319, 345, 346, 347, 348 and 357 to be effective 9/1/2016.

Filed Date: 9/1/16.

Accession Number: 20160901-5235.

Comments Due: 5 p.m. ET 9/22/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 1, 2016.
Nathaniel J. Davis, Sr.,
Deputy Secretary.

[FR Doc. 2016-21680 Filed 9-8-16; 8:45 am]

BILLING CODE 6717-01-P